NATIONAL SCIENCE FOUNDATION

Advisory Committee for Environmental Research and Education; Notice of Meeting

In accordance with the Federal Advisory Committee Act (Public Law 92-463, as amended), the National Science Foundation announces the following meeting:

Name: Advisory Committee for Environmental Research and Education (9487).

Dates: April 3, 2002, 9 a.m.-5:30 p.m. and April 4, 9 a.m.-2:30 p.m.

Place: Stafford II Annex, Room 555, National Science Foundation, 4201 Wilson Blvd, Arlington, VA.

Type of Meeting: Open.

Contact Person: Dr. Margaret Cavanaugh, Office of the Director, National Science Foundation, Suite 1205, 4201 Wilson Blvd, Arlington, Virginia 22230. Phone 703-292-8002.

Minutes: May be obtained from the contact person listed above.

Purpose of Meeting: To provide advice, recommendations, and oversight concerning support for environmental research and education.

Agenda

April 3

AM

Panel Discussion: Building a Diverse Workforce in Environmental Science,

Engineering, Education, and Technology

Update on NSF Activities

PM

General Discussion of Outline/Draft Decadal Plan

Modifications of Outline/Draft Decadal Plan: Small Group Meetings

April 4

AM

Meeting with Director: (Tentative)

Approval of Specific Modifications to Outline/Draft Decadal Plan

PM

Trends and Opportunities in Research & Education: Tom Graedel

Plans for Vetting and Publication of Decadal Plan and Wrap-up

Dated: March 12, 2002.
Susanne Bolton,
Committee Management Officer.

[FR Doc. 02-6282 Filed 3-14-02; 8:45 am]

BILLING CODE 7555-01-M